ENVIRONMENTAL PROTECTION AGENCY

[EPA-HQ-OAR-2009-0430; FRL-8977-8]

Final Notice of Data Availability Concerning Compliance Supplement Pool Allowance Allocations Under the Clean Air Interstate Rule Federal Implementation Plan.

AGENCY: Environmental Protection Agency (EPA).

ACTION: Notice of data availability (NODA).

SUMMARY: EPA is administering—under the Clean Air Interstate Rule (CAIR) Federal Implementation Plans (FIPs)—the CAIR NOX Annual Trading Program Compliance Supplement Pool (CAIR CSP) for the States of Delaware, Louisiana, Maryland, Pennsylvania, and Wisconsin. The CAIR FIPs require the Administrator to determine by order the CAIR CSP allowance allocations for units in these States whose owners and operators requested and qualify for these allocations and to provide the public with the opportunity to object to the determinations of allocations and denials of allocations. On August 6, 2009, EPA issued a NODA setting forth such determinations in the Federal Register and provided an opportunity for submission of objections. Through the NODA issued today, EPA is making available to the public the Agency's determinations, after considering all objections, of CAIR CSP allowance allocations and denials of such allocations under the FIPs, as well as the data upon which the allocations and denials of allocations were based.

DATES: Under § 97.143(d)(5), EPA must record, by January 1, 2010, the CSP allowance allocations, consistent with this NODA, in the compliance accounts of units whose owners and operators successfully applied for a CSP allowance allocation under the CAIR FIPs.

Docket: EPA established a docket for this action at http://www.regulations.gov under docket ID No. EPA-HQ-OAR-2009-0430. All documents in the docket (including documents showing EPA's determinations of CAIR CSP allowance allocations and denials of allocations and the data upon which the allocations and denial of allocations were based) are listed in the http://www.regulations.gov index. Docket materials are available either electronically at http://www.regulations.gov or in hard copy at the EPA Docket Center, EPA West, Room 3334, 1301 Constitution Avenue, NW., Washington, DC. The Public Reading Room is open from 8:30 a.m. to 4:30 p.m, Monday through Friday, excluding legal holidays. The telephone number for the Public Reading Room is (202) 566-1744, and the telephone number for the Air Docket is (202) 566-1742.

FOR FURTHER INFORMATION CONTACT: Questions concerning this action should be addressed to Robert L. Miller, EPA Headquarters, CAMD (6204J), 1200 Pennsylvania Ave., NW., Washington, DC 20460, telephone (202) 343-9077, and e-mail miller.robertl@epa.gov.

SUPPLEMENTARY INFORMATION: For more background and information regarding the purpose of the NODA, requirements for requesting and receiving CAIR CSP allowances under the CAIR FIPs, procedures for allocating such allowances, the application by EPA of requirements to individual CSP allocation requests, and the interpretation the data upon which CSP allocations and denial of allocations were based, see the August 6, 2009 NODA (74 FR 39315, Aug. 6, 2009).

EPA received one objection to the determinations and data in the August 6, 2009 NODA. EPA responded to the objection in a written response in which EPA denied the objection (See Document ID EPA-HQ-OAR-2009-0430-0006). For the reasons set forth in the August 6, 2009 NODA, the NODA, and the response to the objection, EPA adopts the CSP allocations set forth in the August 6, 2009 NODA.

EPA is not requesting objections to the data provided in this final NODA. This action constitutes a final action for determining the CAIR CSP allowance allocations under § 97.143 and the CAIR FIPs.

Dated: October 27, 2009.
Edward Callahan,
Acting Director, Office of Atmospheric Programs.

[FR Doc. E9-27614 Filed 11-16-09; 8:45 am]

BILLING CODE 6560-50-P